DEPARTMENT OF AGRICULTURE

Grain Inspection, Packers and Stockyards Administration

United States Standards for Lentils

AGENCY: Grain Inspection, Packers and Stockyards Administration, USDA.

ACTION: Notice with opportunity to comment.

SUMMARY: The Grain Inspection, Packers and Stockyards Administration (GIPSA) is proposing to revise the United States Standards for Lentils to modify the definitions for “good” and “fair” color lentils; establish an additional color factor and definition, “poor color lentils;” establish a new grading factor, “contrasting lentils;” and expand the definition of damaged lentils to include “immature lentils.” These changes are being made at the request of the lentil industry in order to improve the usability of the United States Standards for Lentils.

DATES: Comments must be received by June 30, 2002.

ADDRESSES: Written comments must be submitted to Tess Butler, USDA, GIPSA, STOP 3604, 1400 Independence Avenue, SW., Washington, DC 20250-3604; faxed to (202) 690-2755, or e-mail: H.Tess.Butler@usda.gov.

All comments received will be made available for public inspection at the above address during regular business hours (8 a.m.-3:30 p.m.).

The current United States Standards for Lentils, along with the proposed changes, are available either through the above addresses or by accessing GIPSA's Home Page on the Internet at: www.usda.gov/gipsa/reference-library/standards/stds.htm.

FOR FURTHER INFORMATION CONTACT: John Giler, Chief, Policies and Procedures Branch, USDA, GIPSA, Stop 3604, 1400 Independence Avenue, SW., Washington, DC 20250-3632; telephone (202) 720-0252; or e-mail to: John.C.Giler@usda.gov

SUPPLEMENTARY INFORMATION: Section 203(c) of the Agricultural Marketing Act of 1946, as amended, directs and authorizes the Secretary of Agriculture “to develop and improve standards of quality, condition, quantity, grade, and packaging and recommend and demonstrate such standards in order to encourage uniformity and consistency in commercial practices. * * *” GIPSA is committed to carrying out this authority in a manner that facilitates the marketing of agricultural commodities. The United States Standards for Lentils do not appear in the Code of Federal Regulations but are maintained by the U.S. Department of Agriculture.

GIPSA is proposing to change the United States Standards for Lentils using the procedures it published in the Federal Register on February 13, 1997 (62 FR 6705). Specifically, GIPSA is proposing to better define current color requirements; establish a new color requirement; expand the definition of damaged lentils; and include a new factor, “contrasting lentils.”

GIPSA representatives work closely with the U.S.A. Dry Pea and Lentil Council (USADPLC) and others in the lentil industry to examine the effectiveness of the U.S. Standards for Lentils in today's marketing environment. Through discussions, it appears that most of the current standards continue to meet consumer/processor needs. However, changing market trends demand that certain changes be made pertaining to the acceptable appearance of the lentils.

At the request of the lentil industry, GIPSA is proposing these changes be implemented by July 1, 2002, in order to be in place before harvest of the lentil crop year.

Lentil Color

The U.S. Standards for Lentils characterize lentil color as being “good lentil color” which is the minimum color requirement for U.S. No. 1 and “fair lentil color” which is the minimum color requirement for U.S. Nos. 2 and 3. However, the current written descriptions for these characterizations and the absence of any visual reference aids may cause confusion concerning the applications of color. Due to the economic significance general appearance (color) has for processors and end-users, GIPSA and the USADPLC worked together to more clearly define the terms used to describe lentil color and to create visual references that aid in the consistent applications of color.

The current definition of good lentil color is “Lentil that in mass are practically free from discoloration and have the natural color appearance characteristics of the predominating class.” The proposed definition is “Lentils that are practically free from discoloration and have the uniform natural color and appearance characteristics of the predominating lentil type.” The current definition of fair color lentils is “Lentils that are not of good color.” The proposed definition is “Lentils that are lightly to moderately discolored from storage or other causes to the extent they cannot be considered of good color.”

Also, the existing lentil color characterizations, “good” and “fair,” do not sufficiently address the color degradation process and all possible degrees of color. Samples that are marginally discolored and those which are significantly discolored are both considered to be of “fair lentil color.” Accordingly, GIPSA and the USADPLC established visual reference standards to distinguish between three-color categories: good, fair, and poor. The proposed definition for poor lentil color is: “Lentil that are severely discolored from storage or other causes to the extent they cannot be considered of fair color.”

The addition of “poor lentil color” to the Standards, the clarification of the definitions for “good color lentils” and “fair color lentils,” and the establishment of visual aids for these colors will result in a more uniform and consistent application of the Standards. While “good” and “fair” will continue to serve as the minimum color standard for U.S. Nos. 1 and 2, respectively, samples considered to be of “poor lentil color” will receive no better than a U.S. No. 3 grade designation. This will assist in moving the U.S. lentil market towards fewer quality complaints.

Also, the establishment of visual aid standards will provide the platform for the development of computer imaging technology for determining color classifications. Imaging technology eliminates certain variables in the inspection process and can provide the most uniform color classifications on a national level. This type of technology is crucial for the U.S. lentil market in becoming more competitive in the world market.

Immature Lentils

Lentils, like many other field crops, are occasionally harvested before all lentils have reached full maturity. These under-filled, often disfigured, lentils have less market value than fully matured lentils. To address this marketing concern, GIPSA decided to revise the lentil standards to expand the definition of “Damaged Lentils” to include “Immature Lentils.”

The current definition of damaged lentils is: “Whole and pieces of lentils which are distinctly damaged by frost, weather, disease, heat (other that to a material extent), or other causes, except weevil or material heat damage, or are distinctly soiled or stained by nightshade, dirt, or toxic material.” The proposed definition is: “Whole and pieces of lentils which are distinctly damaged by frost, weather, disease, heat (other that to a material extent), immaturity, or other causes, except weevil or material heat damage, or are distinctly soiled or stained by nightshade, dirt, or toxic material.”

The proposed definition for immature lentils is: “Immature Lentils. Lentils that do not have a traditional lens-shaped profile due to immaturity. Immature lentils are characterized as having a thin or flat (wafer-like), wrinkled, and misshapen appearance. Lentils may also be discolored.”

GIPSA conducted a crop survey in 2001 which revealed that over 70 percent of the samples reviewed showed no measurable amount of immature lentils and all samples had less than 1 percent (the limit for U.S. No. 1 is 2.0 percent) defective lentils. Based on these results, the proposed definition would have no impact on grade. Further, the following statement will appear in the Pea and Lentil Handbook as an interpretive aid for determining when a lentil is considered immature. “All three conditions (thin, wrinkled, and misshapen) must be present for an inspector to consider a lentil an immature lentil.”

Contrasting Lentils

The terms good, fair, and poor lentil color are not intended to address the different sizes and colors associated with the lentil types and varieties produced in the U.S. The possible introduction of distinctively different lentils is a concern to those marketing lentils. Accordingly, a new factor, “contrasting lentils,” is being introduced into the standards.

Introducing contrasting lentils as a new factor discourages the blending of different lentil types by focusing on inherently and noticeably different sizes and color. Additionally, it provides the processor a standard for the lentils that are consistent in size and color.

The proposed definition for contrasting lentils is: “Lentils that differ substantially in size or color from the predominating lentil type.” In addition, the following statement will appear in the Pea and Lentil Handbook as an interpretive aid: “Color, as used in this definition, is limited to the lentil's natural seed coat color and excludes the mottling that may be present on some seed coats.”

The proposed maximum limit for contrasting lentils for U.S. No. 1 is 2.0 percent, and the proposed maximum limit for U.S. No. 2 is 4.0 percent. Lentils containing more than 4.0 percent contrasting lentils will be graded U.S. No. 3.

These proposed standard changes were recommended to us and reviewed by the affected trade. Therefore, GIPSA is publishing these proposed standard changes with a 30 day comment period which will provide a sufficient amount of time for interested persons to comment on changes to the standards.

Authority: 7 U.S.C. 1621 et.seq.

Dated: April 30, 2002.
Donna Reifschneider,
Administrator, Grain Inspection, Packers and Stockyards Administration.

[FR Doc. 02-11156 Filed 5-3-02; 8:45 am]

BILLING CODE 3410-EN-P